FEDERAL DEPOSIT INSURANCE CORPORATION

Agency Information Collection Activities: Renewal of Currently Approved Collection (3064-0175); Submission for OMB Review; Comment Request

AGENCY: Federal Deposit Insurance Corporation (FDIC).

ACTION: Notice of information collection to be submitted to OMB for review and approval under the Paperwork Reduction Act, and Request for Comment.

SUMMARY: The FDIC, as part of its continuing effort to reduce paperwork and respondent burden, invites the general public and other federal agencies to take this opportunity to comment on a continuing information collection, as required by the Paperwork Reduction Act of 1995 (44 U.S.C. chapter 35). On September 27, 2010 (75 FR 59263), the FDIC solicited public comment for a 60-day period on renewal of the following information collection: Interagency Guidance on Sound Incentive Compensation Practices. (3064-0175). No comments were received. Therefore, the FDIC hereby gives notice of its submission of its request for renewal to OMB for review.

DATES: Comments must be submitted on or before January 21, 2011.

ADDRESSES: Interested parties are invited to submit written comments. All comments should refer to the name and number of the collection. Comments may be submitted by any of the following methods:

• http://www.FDIC.gov/regulations/laws/federal/notices.html.

• E-mail: comments@fdic.gov.

• Mail: Gary A. Kuiper (202.898.3877), Federal Deposit Insurance Corporation, 550 17th Street NW., F-1086, Washington, DC 20429.

• Hand Delivery: Comments may be hand-delivered to the guard station at the rear of the 550 17th Street Building (located on F Street), on business days between 7 a.m. and 5 p.m.

A copy of the comments may also be submitted to the OMB Desk Officer for the FDIC, Office of Information and Regulatory Affairs, Office of Management and Budget, New Executive Office Building, Washington, DC 20503.

FOR FURTHER INFORMATION CONTACT: Gary A. Kuiper (at the FDIC address above).

SUPPLEMENTARY INFORMATION: The FDIC is proposing to renew this information collection.

Title: Interagency Guidance on Sound Incentive Compensation Practices.

OMB Number: 3064-0175.

Form Number: None.

Frequency of Response: Implementation: Once.

Maintenance: Annual.

Affected Public: Insured state nonmember banks.

Estimated Number of Responses: Implementation: Large Banks: 20. Small Banks: 4870.

Maintenance: All Banks: 4890.

Estimated Time per Response: Implementation: Large Banks: 480 hours. Small Banks: 80 hours.

Maintenance: Large Banks: 40 hours. Small Banks: 40 hours.

Total Annual Burden: Large Banks: 20 × 480 + 20 × 40 = 10,400 hours. Small Banks: 4870 × 80 + 4870 × 40 = 389,600 hours.

Total: 594,800 hours (399,200 hours for implementing policies and procedures is a one-time burden).

General Description of Collection: The Guidance would help ensure that incentive compensation policies at insured state non-member banks do not encourage excessive risk-taking and are consistent with the safety and soundness of the organization. Under the Guidance, banks would be required to: (i) Have policies and procedures that identify and describe the role(s) of the personnel and units authorized to be involved in incentive compensation arrangements, identify the source of significant risk-related inputs, establish appropriate controls governing these inputs to help ensure their integrity, and identify the individual(s) and unit(s) whose approval is necessary for the establishment or modification of incentive compensation arrangements; (ii) create and maintain sufficient documentation to permit an audit of the organization's processes for incentive compensation arrangements; (iii) have any material exceptions or adjustments to the incentive compensation arrangements established for senior executives approved and documented by its board of directors; and (iv) have its board of directors receive and review, on an annual or more frequent basis, an assessment by management of the effectiveness of the design and operation of the organization's incentive compensation system in providing risk-taking incentives that are consistent with the organization's safety and soundness.

Request for Comment

Comments are invited on: (a) Whether this collection of information is necessary for the proper performance of the FDIC's functions, including whether the information has practical utility; (b) the accuracy of the estimate of the burden of the information collection, including the validity of the methodology and assumptions used; (c) ways to enhance the quality, utility, and clarity of the information to be collected; and (d) ways to minimize the burden of the information collection on respondents, including through the use of automated collection techniques or other forms of information technology. All comments will become a matter of public record.

Dated at Washington, DC, this 17th day of December, 2010.
Federal Deposit Insurance Corporation.
Robert E. Feldman,
Executive Secretary.

[FR Doc. 2010-32158 Filed 12-21-10; 8:45 am]

BILLING CODE 6714-01-P